DEPARTMENT OF JUSTICE

Federal Bureau of Prisons

Finding of No Significant Impact; Notice of Availability of the Finding of No Significant Impact (FONSI) Concerning a Proposal To Award a Contract for New Low Security Beds to One Private Contractor To House Approximately 1,000 Federal, Low-Security, Adult Male, Non-US Citizen, Criminal Aliens at a Contractor-Owned, Contractor-Operated Correctional Facility

AGENCY: U.S. Department of Justice, Federal Bureau of Prisons.

ACTION: Finding of No Significant Impact.

SUMMARY: The U.S. Department of Justice, Federal Bureau of Prisons (BOP) announces the availability of the Finding of No Significant Impact (FONSI) concerning the Environmental Assessment (EA) for the proposal to award one or more contracts to house approximately, 1,000 federal, low-security, adult males, criminal aliens within one existing contractor owned, contractor operated facility.

Background Information

Growth of the federal inmate population has been substantial over the last two decades. Currently, the increased federal inmate population exceeds the combined rated capacities of the 116 BOP facilities. It is projected that this growth will continue as a result of actions and programs implemented by the U.S. Department of Justice and the U.S. Department of Homeland Security regarding sentenced and unsentenced criminal aliens.

In response, the BOP is seeking flexibility in managing its current shortage of beds by contracting for those services with non-federal facilities to house federal inmates. This approach provides the BOP with flexibility to meet population capacity needs in a timely fashion, conform to federal law, and maintain fiscal responsibility, while successfully attaining the mission of the BOP.

The BOP proposed action is to award one contract to house approximately 1,000 federal low-security, adult male, non-U.S. citizen, criminal aliens at an existing privately owned and privately operated correctional facility. Under the Proposed Action, the selected contractor would be required to operate the facility in a manner consistent with the mission and requirements of the BOP. All inmate services would be developed in a manner that complies with the BOP's contract requirements, as well as applicable federal, state, and local laws and regulations. The contract also requires that no new construction or expansion of the existing facility occur. In addition, the facility will be within proximity, and have access to, ambulatory, fire and police protection services. The federal inmates assigned to this facility would consist primarily of inmates with sentences of 90 months or less remaining to be served. As described previously these inmates are anticipated to be low-security, adult male, non-U.S. citizen, criminal aliens, however the BOP may designate any inmate within its custody to serve their sentence in this facility. The contract awarded for this action would have one four-year base period and three, two-year option periods, for a maximum term of ten years.

Five existing privately owned and operated correctional facilities in Kentucky, Louisiana, and Texas have been offered in response to the BOP's nationwide solicitation from which the BOP will award one contract to one of the five facilities offered. Each of the following existing facilities has been evaluated in this EA. In addition, the No Action Alternative is evaluated, to determine baseline conditions and comply with the provisions of NEPA.

• Lee Adjustment Center. Located on an approximately 90 acre parcel in Beattyville, Kentucky.

• Limestone County Detention Center. Located on a 293 acre parcel in Groesbeck, Texas.

• Jackson Parish Correctional Center. Located on approximately 20 acres in Jonesboro, Louisiana.

• Pine Prairie Correctional Center. Located on an approximately 15 acre parcel in Pine Prairie, Louisiana.

• Jack Harwell Detention Center. Located on an approximately 20 acre parcel in Waco, Texas.

No other facilities are under consideration by the BOP

Project Information

Pursuant to Section 102, 42 U.S.C. 4332, of the National Environmental Policy Act (NEPA) of 1969, as amended and the Council on Environmental Quality Regulations (40 CFR Parts 1500-1508), the BOP published an EA concerning a proposal to award one contract to house approximately 1,000 Iow-security, adult male, criminal aliens within one existing contractor-owned and contractor-operated correctional facility.

Under the current solicitation, the BOP required that, prior to contract award, offerors provide information regarding past environmental activities and the environmental condition of the proposed sites and institutions. The EA, which is incorporated by reference describes the potential environmental impacts associated with the Action Alternatives, as well as the No Action Alternative. The stated purpose and need was the provision of approximately 1,000 beds although the overall system need is far greater. The document describes baseline environmental conditions, including the natural and human environments, addresses potential environmental impacts of the No Action Alternative and Action Alternatives, and includes appropriate mitigation measures.

Further, as required by the solicitation, the BOP has taken several steps regarding offerors environmental documentation. First, the BOP has independently evaluated and verified the accuracy of the offerors environmental documentation. Second, the BOP has given greater consideration to the proposal which represents the preferred alternative. Third, the BOP reserved the right to eliminate proposals based on the adequacy of the documentation provided by the offeror(s) or the potential impact to the quality of the human environment. Last, the BOP reserved the right to disclose or make public any environmental documentation or other environmental information.

An impact analysis of the alternatives was prepared as part of the EA. The analysis evaluated natural, cultural, and socioeconomic impacts of the Proposed Action for each of the Action Alternatives. The analysis included the environmental information provided by the offerors, as well as site visits. The BOP published the EA on January 28, 2011 and published a Notice of Availability (NOA) in the Federal Register and in local newspapers associated with each of the five proposed alternative locations. The NOA provided a 30-day public comment period which began on January 28, 2011 and ended on February 28, 2011. The BOP also distributed copies of the EA to federal, state and local officials, resource agencies, and other interested parties. No comments were received regarding the EA during the 30-day comment period. However, the BOP did receive a letter from an individual after the end of the comment period containing several comments related to the Lee Adjustment Center alternative in Beattyville, Kentucky. Although this comment letter was received after the comment period ended, the BOP reviewed and considered comments on the Lee Adjustment Center alternative in the NEPA process.

The Limestone County Detention Center in Groesbeck, Texas is the selected alternative that best meets BOP's needs and has no significant impact on the human, natural or cultural environment. Mitigation for the project is not required due to the lack of impacts to natural, cultural, and socioeconomic resources. Implementation of the proposed action at the Limestone County Detention Center in conjunction with past, present, or reasonably foreseeable future actions, is not anticipated to result in major adverse cumulative impacts to natural, cultural or socioeconomic resources in the area.

Availability of Finding of No Significant Impact

Pursuant to the requirements of the NEPA and subsequent guidelines for preparing environmental documents, including 40 CFR 1506.5(b), the BOP has conducted its own evaluation of the environmental issues and takes responsibility for the scope and content of the EA prepared for New Low Security Beds, January 2011. The BOP has determined that the selected action does not significantly impact the quality of the human environment.

The FONSI and other information regarding the proposed action are available upon request by contacting: Richard A. Cohn, Chief, or Issac J. Gaston, Site Specialist Capacity Planning and Site Selection, Federal Bureau of Prisons, 320 First Street, NW., Washington, DC 20534 Tel: 202-514-6470, Fax: 202-616-6024/E-mail: racohn@bop.gov origaston@bop.gov

FOR FURTHER INFORMATION CONTACT: Richard A. Cohn, or Issac J. Gaston, Federal Bureau of Prisons.

Dated: March 16, 2011.
Richard A. Cohn,
Chief, Capacity Planning and Site Selection Branch.

[FR Doc. 2011-6819 Filed 3-24-11; 8:45 am]

BILLING CODE P